DEPARTMENT OF COMMERCE

International Trade Administration

[A-570-967]

Aluminum Extrusions From the People's Republic of China: Preliminary Results of Antidumping Duty Administrative Review and Rescission of Review, in Part; 2017-2018

AGENCY: Enforcement and Compliance, International Trade Administration, Department of Commerce.

SUMMARY: The Department of Commerce (Commerce) preliminarily determines that producers and/or exporters subject to this administrative review made sales of subject merchandise at less than normal value during the period of review (POR), May 1, 2017, through April 30, 2018. Interested parties are invited to comment on these preliminary results of review.

DATES: Applicable April 16, 2019.

FOR FURTHER INFORMATION CONTACT: Heather Lui or Mark Flessner, AD/CVD Operations, Office VI, Enforcement and Compliance, International Trade Administration, Department of Commerce, 1401 Constitution Avenue NW, Washington, DC 20230; telephone: (202) 482-0016 or (202) 482-6312, respectively.

SUPPLEMENTARY INFORMATION:

Background

On July 12, 2018, Commerce published the notice of initiation of the administrative review of the AD order on aluminum extrusions from China ¹ for the POR covering 243 companies.² All requests for administrative review were timely withdrawn with regard to 217 companies (listed in Appendix II to this notice), leaving 26 companies subject to the administrative review.³ On December 3, 2018, we selected Cosco (J.M.) Aluminum Co., Ltd. (Cosco) as the sole producer or exporter eligible for individual examination as a mandatory respondent in this administrative review.⁴ For a complete description of the events that followed the initiation of this administrative review, see the Preliminary Decision Memorandum.⁵

¹ See Aluminum Extrusions from the People's Republic of China: Antidumping Duty Order, 76 FR 30650 (May 26, 2011) (the Order).

² See Petitioner/Endura Letter re: Aluminum Extrusions from the People's Republic of China: Request for Administrative Review, dated May 31, 2018 (Petitioner/Endura's Request for Review); see also Columbia Letter re: Aluminum Extrusions from the People's Republic of China: Request for Administrative Review, dated May 31, 2018; Initiation of Antidumping and Countervailing Duty Administrative Reviews, 83 FR 32270, 32274-32277 (July 12, 2018) (Initiation Notice), corrected by Initiation of Antidumping and Countervailing Duty Administrative Reviews, 83 FR 39688, 39690, n.9 (August 10, 2018) (correcting the Initiation Notice with respect to Asia Alum Group and Atlas Integrated Manufacturing Ltd.) (Initiation Notice Correction).

³ See Petitioner/Endura Letter re: Aluminum Extrusions from the People's Republic of China: Withdrawal of Request for Administrative Review, dated October 4, 2017. See also Columbia Letter re: Aluminum Extrusions from China, dated October 10, 2018. A request for an administrative review therefore remains in place for 26 companies.

⁴ See Memorandum, “Aluminum Extrusions from the People's Republic of China, 2017-2018 Administrative Review: Memorandum for Identification of Mandatory Respondent,” dated December 3, 2018.

⁵ See Memorandum, “Decision Memorandum for Preliminary Results of Antidumping Duty Administrative Review: Aluminum Extrusions from the People's Republic of China; 2017-2018,” dated concurrently with, and hereby adopted by, this notice (Preliminary Decision Memorandum).

The Preliminary Decision Memorandum is a public document and is on file electronically via Enforcement and Compliance's AD and Countervailing Duty Centralized Electronic Service System (ACCESS). ACCESS is available to registered users at https://access.trade.gov, and to all parties in the Central Records Unit, room B8024 of the main Department of Commerce building. In addition, a complete version of the Preliminary Decision Memorandum can be accessed directly on the internet at http://enforcement.trade.gov/frn/. The signed and the electronic versions of the Preliminary Decision Memorandum are identical in content. A list of topics included in the Preliminary Decision Memorandum is included as Appendix I to this notice.

Commerce exercised its discretion to toll all deadlines affected by the partial federal government closure from December 22, 2018, through the resumption of operations on January 29, 2019.⁶ If the new deadline falls on a non-business day, in accordance with Commerce's practice, the deadline will become the next business day. On March 11, 2019, we extended the deadline for the preliminary results by 30 days.⁷ The revised deadline for the preliminary results of this review is now April 11, 2019.

⁶ See Memorandum to the Record from Gary Taverman, Deputy Assistant Secretary for Antidumping and Countervailing Duty Operations, performing the non-exclusive functions and duties of the Assistant Secretary for Enforcement and Compliance, “Deadlines Affected by the Partial Shutdown of the Federal Government,” dated January 28, 2019. All deadlines in this segment of the proceeding have been extended by 40 days.

⁷ See Memorandum, “Aluminium Extrusions from the People's Republic of China: Extension of Deadline for Preliminary Results of Antidumping Duty Administrative Review,” dated March 11, 2019.

Scope of the Order

The merchandise covered by the Order is aluminum extrusions which are shapes and forms, produced by an extrusion process, made from aluminum alloys having metallic elements corresponding to the alloy series designations published by The Aluminum Association commencing with the numbers 1, 3, and 6 (or proprietary equivalents or other certifying body equivalents).⁸

⁸ See Preliminary Decision Memorandum for a complete description of the scope of the Order.

Imports of the subject merchandise are provided for under the following categories of the Harmonized Tariff Schedule of the United States (HTSUS): 8541.90.00.00, 8708.10.30.50, 8708.99.68.90, 6603.90.8100, 7616.99.51, 8479.89.94, 8481.90.9060, 8481.90.9085, 9031.90.9195, 8424.90.9080, 9405.99.4020, 9031.90.90.95, 7616.10.90.90, 7609.00.00, 7610.10.00, 7610.90.00, 7615.10.30, 7615.10.71, 7615.10.91, 7615.19.10, 7615.19.30, 7615.19.50, 7615.19.70, 7615.19.90, 7615.20.00, 7616.99.10, 7616.99.50, 8479.89.98, 8479.90.94, 8513.90.20, 9403.10.00, 9403.20.00, 7604.21.00.00, 7604.29.10.00, 7604.29.30.10, 7604.29.30.50, 7604.29.50.30, 7604.29.50.60, 7608.20.00.30, 7608.20.00.90, 8302.10.30.00, 8302.10.60.30, 8302.10.60.60, 8302.10.60.90, 8302.20.00.00, 8302.30.30.10, 8302.30.30.60, 8302.41.30.00, 8302.41.60.15, 8302.41.60.45, 8302.41.60.50, 8302.41.60.80, 8302.42.30.10, 8302.42.30.15, 8302.42.30.65, 8302.49.60.35, 8302.49.60.45, 8302.49.60.55, 8302.49.60.85, 8302.50.00.00, 8302.60.90.00, 8305.10.00.50, 8306.30.00.00, 8414.59.60.90, 8415.90.80.45, 8418.99.80.05, 8418.99.80.50, 8418.99.80.60, 8419.90.10.00, 8422.90.06.40, 8473.30.20.00, 8473.30.51.00, 8479.90.85.00, 8486.90.00.00, 8487.90.00.80, 8503.00.95.20, 8508.70.00.00, 8515.90.20.00, 8516.90.50.00, 8516.90.80.50, 8517.70.00.00, 8529.90.73.00, 8529.90.97.60, 8536.90.80.85, 8538.10.00.00, 8543.90.88.80, 8708.29.50.60, 8708.80.65.90, 8803.30.00.60, 9013.90.50.00, 9013.90.90.00, 9401.90.50.81, 9403.90.10.40, 9403.90.10.50, 9403.90.10.85, 9403.90.25.40, 9403.90.25.80, 9403.90.40.05, 9403.90.40.10, 9403.90.40.60, 9403.90.50.05, 9403.90.50.10, 9403.90.50.80, 9403.90.60.05, 9403.90.60.10, 9403.90.60.80, 9403.90.70.05, 9403.90.70.10, 9403.90.70.80, 9403.90.80.10, 9403.90.80.15, 9403.90.80.20, 9403.90.80.41, 9403.90.80.51, 9403.90.80.61, 9506.11.40.80, 9506.51.40.00, 9506.51.60.00, 9506.59.40.40, 9506.70.20.90, 9506.91.00.10, 9506.91.00.20, 9506.91.00.30, 9506.99.05.10, 9506.99.05.20, 9506.99.05.30, 9506.99.15.00, 9506.99.20.00, 9506.99.25.80, 9506.99.28.00, 9506.99.55.00, 9506.99.60.80, 9507.30.20.00, 9507.30.40.00, 9507.30.60.00, 9507.90.60.00, and 9603.90.80.50.

The subject merchandise entered as parts of other aluminum products may be classifiable under the following additional Chapter 76 subheadings: 7610.10, 7610.90, 7615.19, 7615.20, and 7616.99, as well as under other HTSUS chapters. In addition, fin evaporator coils may be classifiable under HTSUS numbers: 8418.99.80.50 and 8418.99.80.60. While HTSUS subheadings are provided for convenience and customs purposes, the written description of the scope of this Order is dispositive.

Methodology

Commerce is conducting this review in accordance with section 751(a)(1)(B) of the Tariff Act of 1930, as amended (the Act). For a full description of the methodology underlying our preliminary results of review, see the Preliminary Decision Memorandum.

Rescission of Administrative Review, in Part

Pursuant to 19 CFR 351.213(d)(1), Commerce will rescind an administrative review, in whole or in part, if the party or parties that requested a review withdraws the request within 90 days of the publication date of the notice of initiation of the requested review. As noted above, all requests for administrative review were timely withdrawn for certain companies. Therefore, in accordance with 19 CFR 351.213(d)(1), we are rescinding this administrative review with respect to 217 of the 243 companies named in the Initiation Notice.⁹ See Appendix II for a list of these companies.¹⁰

⁹ See Initiation Notice, 83 FR at 32274-32277.

¹⁰ See Preliminary Decision Memorandum for further details.

Separate Rates

In the Initiation Notice, we informed parties of the opportunity to request a separate rate.¹¹ In proceedings involving non-market economy (NME) countries, Commerce begins with a rebuttable presumption that all companies within the NME country are subject to government control and, thus, should be assigned a single weighted-average dumping margin. It is Commerce's policy to assign all exporters of merchandise subject to an administrative review involving an NME country this single rate unless an exporter can demonstrate that it is sufficiently independent so as to be entitled to a separate rate. Companies that wanted to qualify for separate rate status in this administrative review were required to timely file, as appropriate, a separate rate application (SRA) or a separate rate certification (SRC) to demonstrate their eligibility for a separate rate. SRAs and SRCs were due to Commerce within 30 calendar days of the publication of the Initiation Notice.¹²

¹¹ See Initiation Notice, 83 FR at 32271-32272.

¹² Id.

Of the 26 companies for which an administrative review was requested, and not withdrawn, Cosco ¹³ and Houztek ¹⁴ submitted SRAs. Cosco did not respond to Commerce's antidumping questionnaire; consequently, we preliminarily find that Cosco is ineligible for separate rate status.¹⁵ Additionally we preliminarily find that Houztek's SRA was deficient and that the company has not established its eligibility for a separate rate; for a more detailed explanation of the deficiency, see the Preliminary Decision Memorandum.

¹³ See Cosco Letter re: Aluminum Extrusions from the People's Republic of China: Quantity and Value Questionnaire (A-570-967); Separate Rate Application, dated September 4, 2018 (Cosco SRA).

¹⁴ See Houztek Letter re: Aluminum Extrusions from the People's Republic of China: Separate Rates Application, dated September 7, 2018 (Houztek SRA).

¹⁵ See Initiation Notice, 83 FR at 32272 (“For exporters and producers who submit a separate-rate status application or certification and subsequently are selected as mandatory respondents, these exporters and producers will no longer be eligible for separate rate status unless they respond to all parts of the questionnaire as mandatory respondents.”).

Of the remaining 24 companies for which a review remains in place, none submitted an SRA, SRC, or certification of no shipments. We, therefore, preliminarily determine that the following companies have not demonstrated eligibility for a separate rate in this administrative review: (1) Activa International Inc.; (2) Belton (Asia) Development Ltd.; (3) Belton (Asia) Development Limited; (4) Changzhou Changzhen Evaporator Co., Ltd.; (5) Changzhou Changzheng Evaporator Co., Ltd.; (6) Changzhou Tenglong Auto Parts Co., Ltd.; (7) Changzhou Tenglong Auto Accessories Manufacturing Co. Ltd; (8) Changzhou Tenglong Auto Parts Co Ltd; (9) China Square; (10) China Square Industrial Co.; (11) China Square Industrial Ltd; (12) Cosco; (13) Cosco (JM) Aluminum Development Co. Ltd; (14) Dynamic Technologies China; (15) ETLA Technology (Wuxi) Co. Ltd; (16) Foshan Shanshui Fenglu Aluminum Co., Ltd.; (17) Global Hi- Tek Precision Co. Ltd; (18) Houztek; (19) Jangho Curtain Wall Hong Kong Ltd.; (20) Kromet International Inc.; (21) Kromet Intl Inc; (22) Kromet International; (23) Kunshan Giant Light Metal Technology Co., Ltd.; (24) Precision Metal Works Ltd.; (25) Sihui Shi Guo Yao Aluminum Co., Ltd.; and (26) Summit Heat Sinks Metal Co, Ltd.¹⁶

¹⁶ See Preliminary Decision Memorandum.

China-Wide Entity

We preliminarily find that the 26 companies listed above are part of the China-wide entity in this administrative review because 24 of the companies failed to submit a valid SRA, SRC, or certification of no shipments, Houztek did not submit a valid SRA, and Cosco failed to respond to Commerce's antidumping questionnaire after being selected as a mandatory respondent.

Commerce's policy regarding conditional review of the China-wide entity applies to this administrative review.¹⁷ Under this policy, the China-wide entity will not be under review unless a party specifically requests, or Commerce self-initiates, a review of the entity. Because no party requested a review of the China-wide entity in the instant review, the entity is not under review, and the entity's current rate, i.e., 86.01 percent,¹⁸ is not subject to change.

¹⁷ See Antidumping Proceedings: Announcement of Change in Department Practice for Respondent Selection in Antidumping Duty Proceedings and Conditional Review of the Nonmarket Economy Entity in NME Antidumping Duty Proceedings, 78 FR 65963, 65970 (November 4, 2013).

¹⁸ See Aluminum Extrusions from the People's Republic of China: Final Results of Antidumping Duty Administrative Review; 2015-2016, 82 FR 52265, 52267 (November 13, 2017).

Adjustments for Countervailable Subsidies

Because no company established eligibility for an adjustment under section 777A(f) of the Act for countervailable domestic subsidies, for these preliminary results, Commerce did not make an adjustment pursuant to section 777A(f) of the Act for countervailable domestic subsidies for separate-rate recipients. Furthermore, because the China-wide entity is not under review, we made no adjustment for countervailable export subsidies for the China-wide entity pursuant to section 772(c)(1)(C) of the Act.

Disclosure and Public Comment

Normally, Commerce discloses to interested parties the calculations performed in connection with the preliminary results within five days of the public announcement or, if there is no public announcement, within five days of the date of publication of this notice in accordance with 19 CFR 351.224(b). However, because Commerce did not calculate weighted-average dumping margins for any companies in this review, nor for the China-wide entity, there is nothing further to disclose.

Interested parties may submit case briefs no later than 30 days after the date of publication of this notice.¹⁹ Rebuttal briefs, limited to issues raised in the case briefs, may be filed no later than five days after the case briefs are filed.²⁰ Parties who submit case or rebuttal briefs in this review are requested to submit with each argument (a) a statement of the issue, (b) a brief summary of the argument, and (c) a table of authorities.²¹

¹⁹ See 19 CFR 351.309(c)(1)(ii).

²⁰ See 19 CFR 351.309(d).

²¹ See 19 CFR 351.309(c)(2) and (d)(2).

Any interested party may request a hearing within 30 days of publication of this notice.²² Hearing requests should contain the following information: (1) The party's name, address, and telephone number; (2) the number of participants; and (3) a list of the issues to be discussed. Oral presentations at the hearing will be limited to issues raised in the case and rebuttal briefs. If a request for a hearing is made, parties will be notified of the time and date for the hearing to be held at the U.S. Department of Commerce, 1401 Constitution Avenue NW, Washington, DC 20230.²³

²² See 19 CFR 351.310(c).

²³ See 19 CFR 351.310(d).

All submissions, with limited exceptions, must be filed electronically using ACCESS.²⁴ An electronically filed document must be received successfully in its entirety by Commerce's electronic records system, ACCESS, by 5 p.m. Eastern Time (ET) on the due date. Documents excepted from the electronic submission requirements must be filed manually (i.e., in paper form) with the APO/Dockets Unit in Room 18022 and stamped with the date and time of receipt by 5 p.m. ET on the due date.²⁵

²⁴ See generally 19 CFR 351.303.

²⁵ See Antidumping and Countervailing Duty Proceedings: Electronic Filing Procedures; Administrative Protective Order Procedures, 76 FR 39263 (July 6, 2011).

Unless otherwise extended, Commerce intends to issue the final results of this administrative review, which will include the results of our analysis of all issues raised in any briefs received, within 120 days of publication of these preliminary results in the Federal Register, pursuant to section 751(a)(3)(A) of the Act.

Assessment Rates

Upon issuance of the final results of this review, Commerce will determine, and CBP shall assess, AD duties on all appropriate entries covered by this review.²⁶ Commerce intends to issue assessment instructions to CBP 15 days after publication of the final results of this review.

²⁶ See 19 CFR 351.212(b)(1).

We intend to instruct CBP to liquidate entries containing subject merchandise exported by the China-wide entity at the China-wide rate. Additionally, if Commerce determines that an exporter under review had no shipments of the subject merchandise, any suspended entries that entered under that exporter's case number will be liquidated at the China-wide rate.²⁷

²⁷ See Non-Market Economy Antidumping Proceedings: Assessment of Antidumping Duties, 76 FR 65694 (October 24, 2011).

For the companies for which this review is rescinded, AD duties shall be assessed at rates equal to the cash deposit of estimated AD duties required at the time of entry, or withdrawal from warehouse, for consumption, in accordance with 19 CFR 351.212(c)(1)(i). Commerce intends to issue assessment instructions to CBP for those companies 15 days after publication of this notice.

Cash Deposit Requirements

The following cash deposit requirements for estimated AD duties, when imposed, will apply to all shipments of subject merchandise from China entered, or withdrawn from warehouse, for consumption on or after the publication of the final results of this administrative review, as provided by section 751(a)(2)(C) of the Act: (1) If the companies preliminarily determined to be eligible for a separate rate receive a separate rate in the final results of this administrative review, their cash deposit rate will be equal to the weighted-average dumping margin established in the final results of this review, as adjusted for domestic and export subsidies (except, if that rate is de minimis, then the cash deposit rate will be zero); (2) for any previously investigated or reviewed Chinese and non-Chinese exporters that are not under review in this segment of the proceeding but that received a separate rate in the most recently completed segment of this proceeding, the cash deposit rate will continue to be the exporter-specific rate published for the most recently completed segment of this proceeding; (3) for all Chinese exporters of subject merchandise that have not been found to be entitled to a separate rate, the cash deposit rate will be that for the China-wide entity; (4) for the China-wide entity, the cash deposit rate will be 86.01 percent; and (5) for all non-Chinese exporters of subject merchandise which have not received their own rate, the cash deposit rate will be the rate applicable to the Chinese exporter that supplied that non-Chinese exporter.

These cash deposit requirements, when imposed, shall remain in effect until further notice.

Notification to Importers

This notice also serves as a preliminary reminder to importers of their responsibility under 19 CFR 351.402(f)(2) to file a certificate regarding the reimbursement of AD duties prior to liquidation of the relevant entries during this review period. Failure to comply with this requirement could result in Commerce's presumption that reimbursement of AD duties occurred and the subsequent assessment of double AD duties.

Notification to Interested Parties

We are issuing and publishing notice of these preliminary results in accordance with sections 751(a)(1) and 777(i)(1) of the Act and 19 CFR 351.221(b)(4).

Dated: April 10, 2019.
Gary Taverman,
Deputy Assistant Secretary for Antidumping and Countervailing Duty Operations, performing the non-exclusive functions and duties of the Assistant Secretary for Enforcement and Compliance.

Appendix I

List of Topics Discussed in the Preliminary Decision Memorandum

I. Summary

II. Background

III. Scope of the Order

IV. Respondent Selection

V. Rescission of Administrative Review, in Part

VI. Non-Market Economy Country

VII. Separate Rates

VIII. The China-Wide Entity

IX. Adjustments for Countervailable Subsidies

X. Conclusion

Appendix II

Companies for Which This Administrative Review Is Being Rescinded

1. Acro Import and Export Co.

2. Activa Leisure Inc.

3. Allied Maker Limited

4. Alnan Aluminum Co., Ltd.

5. Alnan Aluminum Ltd.

6. Aluminicaste Fundicion de Mexico

7. AMC Ltd.

8. AMC Limited

9. Anji Chang Hong Chain Manufacturing

10. Anshan Zhongjda Industry Co., Ltd.

11. Aoda Aluminium (Hong Kong) Co., Limited

12. AsiaAlum Group

13. Atlas Integrated Manufacturing Ltd.

14. Birchwoods (Lin'an) Leisure Products Co., Ltd.

15. Bolnar Hong Kong Ltd.

16. Bracalente Metal Products (Suzhou) Co., Ltd.

17. Brilliance General Equipment Co., Ltd.

18. Changshu Changshen Aluminum Products Co., Ltd.

19. Changshu Changsheng Aluminum Products Co., Ltd.

20. China Zhongwang Holdings, Ltd.

21. Chiping One Stop Industrial & Trade Co., Ltd.

22. Classic & Contemporary Inc.

23. Clear Sky Inc.

24. Dalian Huacheng Aquatic Products

25. Dalian Liwang Trade Co., Ltd.

26. Danfoss Micro Channel Heat Exchanger (Jia Xing) Co., Ltd.

27. Daya Hardware Co. Ltd.

28. Dongguan Dazhan Metal Co., Ltd.

29. Dongguang Aoda Aluminum Co., Ltd.

30. Dongguan Golden Tiger Hardware Industrial Co., Ltd.

31. Dragonluxe Limited

32. Dynabright International Group (HK) Ltd.

33. Ever Extend Ent. Ltd.

34. Fenghua Metal Product Factory

35. First Union Property Limited

36. FookShing Metal & Plastic Co. Ltd.

37. Foreign Trade Co. of Suzhou New & High-Tech Industrial Development Zone

38. Foshan City Nanhai Hongjia Aluminum Alloy Co., Ltd.

39. Foshan Golden Source Aluminum Products Co., Ltd.

40. Foshan Guangcheng Aluminium Co., Ltd.

41. Foshan Jinlan Aluminum Co. Ltd.

42. Foshan JinLan Aluminum Co., Ltd.

43. Foshan JMA Aluminum Company Limited

44. Foshan Nanhai Niu Yuan Hardware Product Co., Ltd.

45. Foshan Shunde Aoneng Electrical Appliances Co., Ltd.

46. Foshan Yong Li Jian Aluminum Co., Ltd.

47. Fujian Sanchuan Aluminum Co., Ltd.

48. Fukang Aluminum & Plastic Import and Export Co., Ltd.

49. Fuzhou Sunmodo New Energy Equipment

50. Gaotang Xinhai Economy & Trade Co., Ltd.

51. Genimex Shanghai, Ltd.

52. Global PMX Dongguan Co., Ltd.

53. Global Point Technology (Far East) Limited

54. Gold Mountain International Development, Ltd.

55. Golden Dragon Precise Copper Tube Group, Inc.

56. Gran Cabrio Capital Pte. Ltd.

57. Gree Electric Appliances

58. GT88 Capital Pte. Ltd.

59. Guang Ya Aluminium Industries Co. Ltd.

60. Guang Ya Aluminum Industries Company Ltd

61. Guang Ya Aluminium Industries (HK) Ltd.

62. Guangcheng Aluminum Co., Ltd.

63. Guangdong Hao Mei Aluminum Co., Ltd.

64. Guangdong Jianmei Aluminum Profile Company Limited

65. Guangdong JMA Aluminum Profile Factory (Group) Co., Ltd.

66. Guangdong Midea

67. Guangdong Midea Microwave and Electrical Appliances

68. Guangdong Nanhai Foodstuffs Imp. & Exp. Co., Ltd.

69. Guangdong Weiye Aluminum Factory Co., Ltd.

70. Guangdong Whirlpool Electrical Appliances Co., Ltd.

71. Guangdong Xingfa Aluminum Co., Ltd.

72. Guangdong Xin Wei Aluminum Products Co., Ltd.

73. Guangdong Yonglijian Aluminum Co., Ltd.

74. Guangdong Zhongya Aluminum Company Ltd.

75. Guangzhou Jangho Curtain Wall System Engineering Co., Ltd.

76. Guangzhou Mingcan Die-Casting Hardware Products Co., Ltd.

77. Hangzhou Xingyi Metal Products Co., Ltd.

78. Hanwood Enterprises Limited

79. Hanyung Alcoba Co., Ltd.

80. Hanyung Alcobis Co., Ltd.

81. Hanyung Metal (Suzhou) Co., Ltd.

82. Hao Mei Aluminum Co., Ltd.

83. Hao Mei Aluminum International Co., Ltd.

84. Hebei Xusen Wire Mesh Products Co., Ltd.

85. Henan New Kelong Electrical Appliances Co., Ltd.

86. Henan Zhongduo Aluminum Magnesium New Material Co, Ltd.

87. Hong Kong Gree Electric Appliances Sales Limited

88. Hong Kong Modern Non-Ferrous Metal

89. Honsense Development Company

90. Hui Mei Gao Aluminum Foshan Co., Ltd.

91. Huixin Aluminum

92. IDEX Dinglee Technology (Tianjin) Co., Ltd.

93. IDEX Health

94. IDEX Technology Suzhou Co., Ltd.

95. Innovative Aluminum (Hong Kong) Limited

96. iSource Asia

97. Jackson Travel Products Co., Ltd.

98. Jiangmen Jianghai District Foreign Economic Enterprise Corp. Ltd.

99. Jiangmen Jianghai Foreign Ent. Gen.

100. Jiangmen Qunxing Hardware Diecasting Co., Ltd.

101. Jiangsu Changfa Refrigeration Co.

102. Jiangyin Suncitygaylin

103. Jiangyin Trust International Inc.

104. Jiangyin Xinhong Doors and Windows Co., Ltd.

105. Jiaxing Jackson Travel Products Co., Ltd.

106. Jiaxing Taixin Metal Products Co., Ltd.

107. Jiuyan Co., Ltd.

108. JMA (HK) Company Limited

109. Johnson Precision Engineering (Suzhou) Co., Ltd.

110. Justhere Co., Ltd.

111. Kam Kiu Aluminum Products Sdn Bhd

112. Kanal Precision Aluminum Product Co., Ltd.

113. Karlton Aluminum Company Ltd.

114. Kong Ah International Company Limited

115. Liaoning Zhong Da Industrial Aluminum Co., Ltd.

116. Liaoning Zhongwang Group Co., Ltd.

117. Liaoyang Zhongwang Aluminum Profile Co. Ltd.

118. Longkou Donghai Trade Co., Ltd.

119. Metal Tech Co. Ltd.

120. Metaltek Group Co., Ltd.

121. Metaltek Metal Industry Co., Ltd.

122. Midea Air Conditioning Equipment Co., Ltd.

123. Midea Electric Trading Co., Pte Ltd.

124. Midea International Trading Co., Ltd.

125. Midea International Training Co., Ltd.

126. Miland Luck Limited

127. Nanhai Textiles Import & Export Co., Ltd.

128. New Asia Aluminum & Stainless Steel Product Co., Ltd.

129. New Zhongya Aluminum Factory

130. Nidec Sankyo (Zhejang) Corporation

131. Nidec Sankyo Zhejiang Corporation

132. Nidec Sankyo Singapore Pte. Ltd.

133. Ningbo Coaster International Co., Ltd.

134. Ningbo Hi Tech Reliable Manufacturing Company

135. Ningbo Innopower Tengda Machinery

136. Ningbo Ivy Daily Commodity Co., Ltd.

137. Ningbo Yili Import and Export Co., Ltd.

138. North China Aluminum Co., Ltd.

139. North Fenghua Aluminum Ltd.

140. Northern States Metals

141. PanAsia Aluminum (China) Limited

142. Pengcheng Aluminum Enterprise Inc.

143. Permasteelisa Hong Kong Limited

144. Permasteelisa South China Factory

145. Pingguo Aluminum Company Limited

146. Pingguo Asia Aluminum Co., Ltd.

147. Popular Plastics Company Limited

148. Press Metal International Ltd.

149. Samuel, Son & Co., Ltd.

150. Sanchuan Aluminum Co., Ltd.

151. Sanhua (Hangzhou) Micro Channel Heat Exchanger Co., Ltd.

152. Shandong Fukang Aluminum & Plastic Co. LTD.

153. Shandong Huajian Aluminum Group

154. Shangdong Huasheng Pesticide Machinery Co.

155. Shangdong Nanshan Aluminum Co., Ltd.

156. Shanghai Automobile Air-Conditioner Accessories Co. Ltd.

157. Shanghai Automobile Air Conditioner Accessories Ltd.

158. Shanghai Canghai Aluminum Tube Packaging Co., Ltd.

159. Shanghai Dofiberone Composites Co. Ltd.

160. Shanghai Dongsheng Metal

161. Shanghai Shen Hang Imp & Exp Co., Ltd.

162. Shanghai Tongtai Precise Aluminum Alloy Manufacturing Co. Ltd.

163. Shanghai Top-Ranking Aluminum Products Co., LTD.

164. Shanghai Top-Ranking New Materials Co., Ltd.

165. Shenyang Yuanda Aluminum Industry Engineering Co. Ltd.

166. Shenzhen Hudson Technology Development Co.

167. Shenzhen Jiuyuan Co., Ltd.

168. Sincere Profit Limited

169. Skyline Exhibit Systems (Shanghai) Co. Ltd.

170. Southwest Aluminum (Group) Co., Ltd.

171. Summit Plastics Nanjing Co. Ltd.

172. Suzhou JRP Import & Export Co., Ltd.

173. Suzhou New Hongji Precision Part Co.

174. Tai-Ao Aluminum (Taishan) Co. Ltd.

175. Taishan City Kam Kiu Aluminium Extrusion Co., Ltd.

176. Taizhou Lifeng Manufacturing Co., Ltd.

177. Taitoh Machinery Shanghai Co. Ltd.

178. Taizhou United Imp. & Exp. Co., Ltd.

179. tenKsolar (Shanghai) Co., Ltd.

180. Tianjin Ganglv Nonferrous Metal Materials Co., Ltd.

181. Tianjin Jinmao Import & Export Corp., Ltd.

182. Tianjin Ruxin Electric Heat Transmission Technology Co., Ltd.

183. Tianjin Xiandai Plastic & Aluminum Products Co., Ltd.

184. Tiazhou Lifeng Manufacturing Corporation

185. Top-Wok Metal Co., Ltd.

186. Traffic Brick Network, LLC

187. Union Aluminum (SIP) Co.

188. Union Industry (Asia) Co., Ltd.

189. USA Worldwide Door Components (Pinghu) Co., Ltd.

190. Wenzhou Shengbo Decoration & Hardware

191. Wenzhou Yongtai Electric Co., Ltd.

192. Whirlpool (Guangdong)

193. Whirlpool Canada L.P.

194. Whirlpool Microwave Products Development Ltd.

195. Worldwide Door Components, Inc.

196. WTI Building Products, Ltd.

197. Wuxi Lutong Fiberglass Doors Co., Ltd,

198. Xin Wei Aluminum Co.

199. Xin Wei Aluminum Company Limited

200. Xinya Aluminum & Stainless Steel Product Co., Ltd.

201. Yuyao Haoshen Import & Export

202. Yuyao Fanshun Import & Export Co., Ltd.

203. Zahoqing China Square Industry Limited

204. Zhaoqing Asia Aluminum Factory Company Ltd.

205. Zhaoqing China Square Industry Limited

206. Zhaoqing China Square Industrial Ltd.

207. Zhaoqing New Zhongya Aluminum Co., Ltd.

208. Zhejiang Anji Xinxiang Aluminum Co., Ltd.

209. Zhejiang Lilies Industrial and Commercial Co.

210. Zhejiang Yili Automobile Air Condition Co., Ltd.

211. Zhejiang Yongkang Listar Aluminum Industry Co., Ltd.

212. Zhejiang Zhengte Group Co., Ltd.

213. Zhenjiang Xinlong Group Co., Ltd.

214. Zhongshan Daya Hardware Co., Ltd.

215. Zhongshan Gold Mountain Aluminum Factory Ltd.

216. Zhongya Shaped Aluminum (HK) Holding Limited

217. Zhuhai Runxingtai Electrical Equipment Co., Ltd.

[FR Doc. 2019-07542 Filed 4-15-19; 8:45 am]

BILLING CODE 3510-DS-P